ENVIRONMENTAL PROTECTION AGENCY

40 CFR Part 86

[EPA-HQ-OAR-2003-0190; FRL-8545-3]

RIN 2060-AM06

Control of Emissions of Air Pollution From Locomotive Engines and Marine Compression-Ignition Engines Less Than 30 Liters per Cylinder; Republication

Correction

In rule document R8-7999 beginning on page 37096 in the issue of Monday, June 30, 2008, make the following correction:

§ 86.117-96 [Corrected]

On page 37192, in § 86.117-96(d)(2), the equation is being reprinted to read as follows:

[FR Doc. Z8-7999 Filed 7-2-08; 8:45 am]

BILLING CODE 1505-01-D